DEPARTMENT OF COMMERCE

International Trade Administration

Manufacturing Council

AGENCY: International Trade Administration, U.S. Department of Commerce.

ACTION: Notice of an Opportunity to Apply for Membership on the Manufacturing Council.

SUMMARY: The Department of Commerce is currently seeking applications from representatives of the U.S. manufacturing industry to fill five vacant positions on the Manufacturing Council (Council). The purpose of the Council is to advise the Secretary of Commerce on government policies and programs that affect U.S. manufacturing and to provide a forum for regular communication between the U.S. Government and the manufacturing sector.

ADDRESSES: Please submit application information via email to oacie@trade.gov or by mail to Elizabeth Emanuel, Office of Advisory Committees, Manufacturing Council Executive Secretariat, U.S. Department of Commerce, Room 4043, 1401 Constitution Avenue NW., Washington, DC 20230.

DATES: All applications for immediate consideration for appointment must be received by the Office of Advisory Committees by close of business on December 6, 2013. After that date, the Office of Advisory Committees will continue to accept applications under this notice until July 31, 2014 to fill any new vacancies that may arise.

FOR FURTHER INFORMATION CONTACT: Elizabeth Emanuel, Manufacturing Council Executive Secretariat, Room 4043, 1401 Constitution Avenue NW, Washington, DC 20230, telephone: 202-482-1369, email: elizabeth.emanuel@trade.gov.

Please visit the Manufacturing Council Web site at: http://trade.gov/manufacturingcouncil/index.asp.

SUPPLEMENTARY INFORMATION: The Office of Advisory Committees is accepting applications from representatives of the U.S. manufacturing industry for five vacant positions on the Council for the current member appointment terms that run through November 30, 2014. The Council was rechartered most recently on April 5, 2012. For the remainder of the current charter term, the Department is expanding the scope of entities eligible for representation on the Council to include U.S. businesses in the manufacturing industry that are controlled directly or indirectly by a foreign parent company (i.e., U.S. subsidiaries of foreign companies).

The Department previously had limited eligibility to U.S. entities incorporated in the United States (or an unincorporated firm with its principal place of business in the United States) that are controlled by U.S. citizens or another U.S. entity, as determined by direct or indirect control of the entity's stock or ownership interests. The Department is expanding the eligibility criteria for the remainder of this charter term to allow for appointment to the Council of representatives of U.S. businesses that are controlled directly or indirectly by foreign companies. U.S. businesses that are controlled directly or indirectly by foreign companies play an important role in the U.S. economy, including in the U.S. manufacturing sector. Expanding the scope of entities eligible for representation on the Council is expected to enhance the recommendations and advice received from the Council, particularly with respect to the Council's duty to provide recommendations on “ways to ensure that the United States remains the preeminent destination for investment in manufacturing throughout the world” as provided for in Section 4 of the current Council charter.

Because U.S. manufacturers that are subsidiaries of foreign companies are not currently represented on the Council, applicants requesting to represent such entities are particularly encouraged to apply. However, all eligible applicants will be considered to fill the five vacant positions.

Members will be selected, in accordance with applicable Department of Commerce guidelines, based on each individual's ability to advise the Secretary of Commerce on matters relating to the U.S. manufacturing sector, to act as a liaison among the stakeholders represented by the membership and to represent the viewpoint of those stakeholders on current and emerging issues in the manufacturing sector. In assessing this ability, the Department will consider such factors as, but not limited to, the candidate's proven experience in promoting, developing and marketing programs in support of manufacturing industries, job creation in the manufacturing sector, or the candidate's proven abilities to manage manufacturing organizations. Given the duties and objectives of the Council, the Department particularly seeks applicants who are active manufacturing executives (Chief Executive Officer, President, or a comparable level of responsibility) that are leaders within their local manufacturing communities and industry sectors. The Council's membership shall reflect the diversity of American manufacturing by representing a balanced cross-section of the U.S. manufacturing industry in terms of industry sectors, geographic locations, demographics, and company size, particularly seeking the representation of small- and medium-sized enterprises.

The Secretary of Commerce appoints all Council members. All Council members serve at the discretion of the Secretary of Commerce. Council members shall serve in a representative capacity, representing the views and interests of a U.S. entity in the manufacturing industry and its particular sector. For the purposes of eligibility, a U.S. entity is defined as a firm incorporated in the United States or with its principal place of business in the United States that is (a) majority controlled (more than 50% ownership interest and/or voting stock) by U.S. citizens or by another U.S. entity or (b) majority controlled (more than 50% ownership interest and/or voting stock) directly or indirectly by a foreign parent company.

As noted above, Council members serve in a representative capacity, expressing the views and interests of a U.S. entity; they are, therefore, not Special Government Employees. Council members receive no compensation for their participation in Council activities. Members participating in Council meetings and events are responsible for their travel, living and other personal expenses. Meetings are held regularly and not less than annually, usually in Washington, DC. Members are required to attend a majority of the Council's meetings.

To be considered for membership, please provide the following:

1. Name and title of the individual requesting consideration.

2. A sponsor letter from the applicant on his or her entity's letterhead or, if the applicant is to represent an entity other than his or her employer, a letter from the entity to be represented, containing a brief statement of why the applicant should be considered for membership on the Council. This sponsor letter should also address the applicant's manufacturing-related experience, including any manufacturing trade policy experience.

3. The applicant's personal resume.

4. An affirmative statement that the applicant meets all eligibility criteria.

5. An affirmative statement that the applicant is not required to register as a foreign agent under the Foreign Agents Registration Act of 1938, as amended.

6. An affirmative statement that the applicant is not a federally registered lobbyist, and that the applicant understands that, if appointed, the applicant will not be allowed to continue to serve as a Council member if the applicant becomes a federally registered lobbyist.

7. Information regarding the control of the entity to be represented, including the governing structure and stock holdings, as appropriate, demonstrating compliance with the criteria set forth above.

8. The entity's size, place of incorporation or principal place of business, ownership, product or service line and major markets in which the entity operates.

9. Please include all relevant contact information such as mailing address, fax, email, phone number, and support staff information where relevant.

Dated: November 4, 2013.
Elizabeth Emanuel,
Executive Secretary, Manufacturing Council.

[FR Doc. 2013-26812 Filed 11-7-13; 8:45 am]

BILLING CODE 3510-DR-P